DEPARTMENT OF HEALTH AND HUMAN SERVICES

Centers for Disease Control and Prevention

[30Day-15-0900]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Contact Investigation Outcome Reporting Forms (0920-0900)—Revision—(expiration date: October 31, 2017)—National Center for Emerging and Zoonotic Infectious Diseases (NCEZID), Division of Global Migration and Quarantine (DGMQ), Centers for Disease Control and Prevention (CDC).

Background and Brief Description

The Centers for Disease Control and Prevention (CDC), Division of Global Migration and Quarantine (DGMQ) requests revision to a currently approved information collection, OMB Control No 0920-0900, Contact Investigation Outcome Reporting Forms. CDC is requesting the addition of Ebola-specific information collection tools to supplement the Centers for Disease Control and Prevention's (CDC) routine contact investigation activities so that CDC can better assess the risk to individuals who may have been exposed to a confirmed case of Ebola while traveling to or within the United States. These forms were approved by OMB under an emergency clearance, OMB Control No 0920-1032. The additional forms to be added are as follows:

• Ebola Airline passenger exposure questionnaire—This contact investigation form gathers information from airline passengers who traveled on plane(s) and sat within a 3 foot area around the suspected case and travel companions of the suspected case to determine the level of exposure and risk, as well as other passengers who may have had contact with the case's bodily fluids. Information gathered in this form is shared with the CDC to determine risk level. Risk levels are outlined in CDC's Movement and Monitoring Guidance.

• Ebola exposure Assessment Flight Crew—The flight exposure questionnaire is used to ascertain the same relevant information included in the passenger questionnaire for all crew who worked on flight(s) and came into contact with Ebola patient(s).

• Ebola exposure Assessment Cleaning Crew—This form collects the same information as the flight crew exposure questionnaire, used to determine the level of exposure a member of the cleaning crew who serviced a flight with an ill patient(s).

• Ebola exposure Assessment Airport or other port of entry staff—This questionnaire is utilized for airport staff who may have come into contact with a person ill with Ebola. Airport staff is identified through conversations with airport authority to determine which employees carried out tasks that would have put them in contact with the ill person or their body fluids.

• Passengers of other commercial conveyance Ebola exposure questionnaire—This questionnaire collects the same information as the airline passenger questionnaire but will be utilized for passengers of commercial conveyance that is land- or waterborne.

• Finally, the introduction and confirmation script is to be used by CDC staff manning open call lines available for persons who traveled on planes that carried suspected or confirmed patients with Ebola. As with the other questionnaires, this script assesses the risk of a plan passenger who was not in the immediate vicinity of the Ebola patient but still has concerns about the level of exposure and risk of contracting the virus.

CDC is not proposing any changes to the routine contact investigation forms already approved under this information collection request.

The total burden associated with this revision is 10,949 hours, including both standard contact investigation forms and updated forms to account for Ebola transmission. There are no costs to respondents other than their time.

Estimated Annualized Burden Hours
Type of respondent | Form name | Number of respondents | Number of responses per | Average burden per response
State/local health department staff | General Contact Investigation Outcome Reporting Form (Air) | 12 | 1 | 5/60
Cruise Ship Physicians/Cargo Ship Managers | General Contact Investigation Outcome Reporting Form (Maritime—word version) | 100 | 1 | 5/60
Cruise Ship Physicians/Cargo Ship Managers | General Contact Investigation Outcome Reporting Form (Maritime—Excel version) | 100 | 1 | 5/60
State/local health department staff | General Contact Investigation Outcome Reporting Form (Land) | 12 | 1 | 5/60
State/local health department staff | TB Contact Investigation Outcome Reporting Form (Air) | 1,244 | 1 | 5/60
Cruise Ship Physicians/Cargo Ship Managers | TB Contact Investigation Outcome Reporting Form (Maritime—word version) | 150 | 1 | 5/60
Cruise Ship Physicians/Cargo Ship Managers | TB Contact Investigation Outcome Reporting Form (Maritime—Excel version) | 150 | 1 | 5/60
State/local health department staff | Measles Contact Investigation Outcome Reporting Form (Air) | 964 | 1 | 5/60
Cruise Ship Physicians/Cargo Ship Managers | Measles Contact Investigation Outcome Reporting Form (Maritime—word version) | 63 | 1 | 5/60
Cruise Ship Physicians/Cargo Ship Managers | Measles Contact Investigation Outcome Reporting Form (Maritime—excel version) | 63 | 1 | 5/60
State/local health department staff | Rubella Contact Investigation Outcome Reporting Form (Air) | 95 | 1 | 5/60
Cruise Ship Physicians/Cargo Ship Managers | Rubella Contact Investigation Outcome Reporting Form (Maritime -word version) | 12 | 1 | 5/60
Cruise Ship Physicians/Cargo Ship Managers | Rubella Contact Investigation Outcome Reporting Form (Maritime—excel version) | 12 | 1 | 5/60
Passenger | Ebola Airline Exposure Assessment Passenger | 3,400 | 2 | 20/60
Flight Crew | Ebola Airline Exposure Assessment Flight Crew | 2,400 | 2 | 20/60
Cleaning Crew | Ebola Airline Exposure Assessment Cleaning Crew | 1,200 | 2 | 20/60
Airport or Other Port of Entry Staff | Ebola Airline Exposure Assessment Airport or Other Port of Entry Staff | 1,000 | 2 | 20/60
Passengers on other commercial conveyances | Ebola Exposure Questionnaire for Passengers on other commercial conveyances | 1,800 | 2 | 20/60
Traveler | Script—Introduction and Confirmation | 50,000 | 1 | 5/60

Leroy A. Richardson,
Chief, Information Collection Review Office, Office of Scientific Integrity, Office of the Associate Director for Science, Office of the Director, Centers for Disease Control and Prevention.

[FR Doc. 2015-03616 Filed 2-23-15; 8:45 am]

BILLING CODE 4163-18-P